DEPARTMENT OF HOMELAND SECURITY

U.S. Citizenship and Immigration Services

[CIS No. 2382-06; DHS Docket No. USCIS-2006-0005]

RIN 1615-ZA34

Extension of the Designation of Temporary Protected Status for El Salvador; Automatic Extension of Employment Authorization Documentation for El Salvadorian TPS Beneficiaries

AGENCY: U.S. Citizenship and Immigration Services, Department of Homeland Security.

ACTION: Notice.

SUMMARY: Prior to a recent determination by the Secretary of Homeland Security, the designation for El Salvador of Temporary Protected Status (TPS) was set to expire on September 9, 2006. This Notice alerts the public that TPS for El Salvador has been extended for 12 months, until September 9, 2007, and sets forth procedures for nationals of El Salvador (or aliens having no nationality who last habitually resided in El Salvador) with TPS to re-register and to apply for an extension of their Employment Authorization Documents (EADs) for the additional 12-month period. Re-registration is limited to persons who registered under the initial designation (which was announced on March 9, 2001) or who “late initial registered” and also timely re-registered under each subsequent extension of the designation. In accordance with the original designation, eligible aliens must also have maintained continuous physical presence in the United States since March 9, 2001, and continuous residence in the United States since February 13, 2001. Certain nationals of El Salvador (or aliens having no nationality who last habitually resided in El Salvador) who have not previously applied for TPS may be eligible to apply under the late initial registration provisions.

Given the large number of Salvadorans affected by this Notice, the Department of Homeland Security (DHS) recognizes that many re-registrants may not receive an extension sticker or new EAD until after their current EADs expire on September 9, 2006. Accordingly, this Notice automatically extends the validity of EADs issued under the TPS designation of El Salvador for 6 months until March 9, 2007, and explains how TPS beneficiaries and their employers may determine which EADs are automatically extended.

DATES: Effective Dates: The extension of TPS for El Salvador is effective September 9, 2006, and will remain in effect until September 9, 2007. The 60-day re-registration period begins on July 3, 2006, and will remain in effect until September 1, 2006. To facilitate processing of their applications, applicants are strongly encouraged to file as soon as possible after the start of the 60-day re-registration period of July 3, 2006.

FOR FURTHER INFORMATION CONTACT: Jonathan Crawford, Status and Family Branch, Service Center Operations, U.S. Citizenship and Immigration Services, Department of Homeland Security, 111 Massachusetts Avenue, NW., 3rd Floor, Washington, DC 20529, telephone (202) 272-8350. This is not a toll free number.

SUPPLEMENTARY INFORMATION:

Abbreviations and Terms Used in This Document

Act—Immigration and Nationality Act

ASC—USCIS Application Support Center

DHS—Department of Homeland Security

DOS—Department of State

EAD—Employment Authorization Document

Secretary—Secretary of Homeland Security

TPS—Temporary Protected Status

USCIS—U.S. Citizenship and Immigration Services

What authority does the Secretary of Homeland Security have to extend the designation of TPS for El Salvador?

Under section 244 of the Immigration and Nationality Act (Act), 8 U.S.C. 1254a, the Secretary of Homeland Security, after consultation with appropriate agencies of the Government, is authorized to designate a foreign state (or part thereof) for TPS. 8 U.S.C. 1254a(b)(1). The Secretary of Homeland Security may then grant TPS to eligible nationals of that foreign state (or aliens having no nationality who last habitually resided in that state). 8 U.S.C. 1254a(a)(1)(A).

At least 60 days before the expiration of the TPS designation, or any extension thereof, the Secretary, after consultations with appropriate agencies of the Government must review the conditions in a foreign state designated for TPS to determine whether the conditions for a TPS designation continue to be met and, if so, the length of an extension of the TPS designation. 8 U.S.C. 1254a(b)(3)(A). If the Secretary determines that the foreign state no longer meets the conditions for the TPS designation, he must terminate the designation. 8 U.S.C. 1254a(b)(3)(B).

Why did the Secretary of Homeland Security decide to extend the TPS designation for El Salvador?

On March 19, 2001, a Notice was published in the Federal Register, at 66 FR 14214, designating El Salvador for TPS due to the devastation caused by a series of severe earthquakes. Subsequent to that date, the Attorney General, and the Secretary of Homeland Security have extended TPS for El Salvador three times, determining in each instance that the conditions warranting the designation continued to be met. 67 FR 46000, 68 FR 42071, 70 FR 1450. To notify individuals of the current extension, the Secretary published a Notice in the Federal Register on January 5, 2005, at 70 FR 1450. That extension became effective on March 9, 2005, and is due to end on September 9, 2006.

Since the date of the current extension, DHS and the Department of State (DOS) have continued to review conditions in El Salvador. In particular, the Secretary of Homeland Security considered whether there continues to be a substantial disruption in living conditions in El Salvador and whether El Salvador is unable, temporarily, to adequately handle the return of its nationals, as is required for TPS designations based on environmental disasters. 8 U.S.C. 1254a(b)(1)(B)(i-iii).

DOS notes that the conditions that initially gave rise to the designation of TPS for El Salvador continue to exist. (“DOS Recommendation, February 2006”). The Government of El Salvador remains engaged in earthquake reconstruction activities with USAID assistance. Id. Despite USAID's 170 million dollar disaster reconstruction program, reconstruction projects remain incomplete and the U.S. embassy in El Salvador, in a reporting cable to Washington on February 7, 2006, estimated that the programs will not be completed in less than 24 months. Id. According to research conducted by the USCIS Office of Refugee, Asylum, and International Operations Report of January 2006 (“ORAIO Report”), significant parts of the programs funded by other international donors were still being carried out or were soon to be underway. Construction in the housing and health sectors were the main programs still pending as of January 2006. Id.

According to El Salvador's Vice Ministry of Housing, only 46 percent of the total number of houses destroyed or damaged had been reconstructed or repaired as of January 2006. Id. Housing programs funded by the European Union and the Inter-American Development Bank were still underway, with the target dates for completion set for 2006 and 2007, respectively. Id. Moreover, as of January 2006, reconstruction of the country's seven main hospitals were still pending, awaiting the completion of engineering designs and bidding procedures. The target date for the completion of the hospitals is now set at 2007. Id.

The incomplete reconstruction programs translate into a continued deficit in low-cost housing and a lack of access to hospital-based healthcare services for many communities. (DOS Recommendation). Moreover, El Salvador has not been able to fully recover, in part due to the 2005 eruption of the Santa Ana volcano that was immediately followed by mudslides and flooding caused by Hurricane Stan. Id.

Based upon this review, the Secretary of Homeland Security, after consultation with appropriate Government agencies, determined that the conditions that prompted designation of El Salvador for TPS continue to be met. See 8 U.S.C. 1254a(b)(3)(A) (describing procedures for periodic review of TPS designations). There continues to be a substantial, but temporary, disruption in living conditions in El Salvador as the result of an environmental disaster, and El Salvador continues to be unable, temporarily, to handle adequately the return of its nationals. See 8 U.S.C. 1254a(b)(1)(B) (describing conditions that justify TPS designation). On the basis of these findings, the Secretary concludes that the TPS designation for El Salvador should be extended for an additional 12-month period. See 8 U.S.C. 1254a(b)(3)(C) (providing the Secretary of Homeland Security with discretion to determine the length of an extension).

If I currently have benefits through the designation of El Salvador for TPS, do I need to re-register for TPS?

Yes. If you already have received TPS benefits through the designation of El Salvador for TPS, your benefits will expire on September 9, 2006. Accordingly, individual TPS beneficiaries must comply with the re-registration requirements described below in order to maintain TPS benefits through September 9, 2007. TPS benefits include temporary protection against removal from the United States, as well as employment authorization, during the TPS designation period. 8 U.S.C. 1254a(a)(1) and 1254a(f). Failure to re-register without good cause will result in the withdrawal of your temporary protected status and possibly your removal from the United States. 8 U.S.C. 1254a(c)(3)(C).

If I am currently registered for TPS or have a pending application for TPS, how do I re-register to renew my benefits for the duration of the extension period?

All persons previously granted TPS under the designation of El Salvador who would like to maintain such status and those whose applications remain pending but who wish to renew their benefits must re-register by filing the following:

(1) Form I-821, Application for Temporary Protected Status, without fee;

(2) Form I-765, Application for Employment Authorization (see the chart below to determine whether you must submit the one hundred and eighty dollar ($180) filing fee with Form I-765), or a fee waiver request;

(3) A biometric services fee of seventy dollars ($70) if you are 14 years of age or older, or if you are under 14 and requesting an Employment Authorization Document (EAD). The biometric services fee will not be waived. 8 CFR 103.2(e)(4)(i), (iii); and

(4) A photocopy of the front and back of your EAD if you received an EAD during the most recent registration period.

You do not need to submit photographs with your TPS application because a photograph will be taken, if needed, when you appear at an ASC for collection of biometrics. All TPS re-registration applications submitted without the required fees will be returned to the applicant.

What edition of the Form I-821 should be submitted?

Form I-821 has been revised. Only the Form I-821 with revision dates of November 5, 2004 or October 26, 2005, will be accepted. The bottom of each page of the revised form reads, “Form I-821 (Rev. 11/05/04)N” or “Form I-821 (Rev. 10/26/05)Y.” Submissions of older versions of Form I-821 will be rejected. You may obtain immigration forms on the Web at http://uscis.gov or by calling USCIS forms hotline at 1-800-870-3676.

Who must submit the $180 filing fee for the Form I-765, Application for Employment Authorization?

If | Then
You are applying for an extension of your EAD valid until September 30, 2007, regardless of your age | You must complete and file the Form I-765, Application for Employment Authorization, with the $180 fee.
You are not requesting an extension of your EAD | You must complete and file Form I-765 (for data-gathering purposes only) with no fee.
You are applying for a TPS-related EAD under the late initial registration provisions and are under age 14 or over age 65 | You must complete and file Form I-765 (for data-gathering purposes only) with no fee.
You are applying for an extension of your EAD and are requesting a fee waiver | You must complete and file: (1) Form I-765 and (2) a fee waiver request and affidavit (and any other supporting information) in accordance with 8 CFR 244.20.

Who must submit the $70 biometric services fee?

The $70 biometric services fee must be submitted by all aliens 14 years of age and older who: (1) Have previously been granted TPS and are now re-registering for TPS; (2) have an initial application for TPS currently pending, have an EAD bearing the notification “C-19” on the face of the card under “Category” or “274a.12(c)(19)” on the face of the card under “Provision of Law,” and wish to renew temporary treatment benefits; or (3) are applying for TPS under the late initial registration provisions. In addition, any alien, including one who is under the age of 14, choosing to apply for a new EAD or an extension of an EAD must submit the $70 biometric services fee. This biometric services fee will not be waived. 8 CFR 103.2(e)(4)(i), (iii).

When should an applicant submit his or her application for TPS?

Applications must be filed during the 60 day re-registration period from July 3, 2006, to September 1, 2006. Applicants are strongly encouraged to file the application as soon as possible after the start of the 60-day re-registration period.

Where should an applicant submit his or her application for TPS?

To facilitate efficient processing, USCIS has designated two post office (P.O.) boxes with the Chicago Lockbox for the filing of TPS applications. Certain applications for TPS re-registration may also be E-Filed as well. The type of TPS filing the applicant has to submit will determine the P.O. Box where the application must be submitted. See below for instructions. Please note that applications should not be filed with a USCIS Service Center or District Office. Failure to file your application properly may result in the delay of the processing of your application.

Category 1: Applications for re-registration that do not require the submission of additional documentation or a renewal of temporary treatment benefits must either be E-Filed (see below) or filed at this address: U.S. Citizenship and Immigration Services, P.O. Box 8635, Chicago, IL 60680-8635. Or, for non-United States Postal Service (USPS) deliveries: U.S. Citizenship and Immigration Services, Attn: TPS—El Salvador, 427 S. LaSalle—3rd Floor, Chicago, IL 60605.

E-Filing Your Application: If your application falls into Category 1 you are strongly encouraged to E-File your application. During the re-registration period from July 3, 2006, to September 1, 2006, aliens re-registering for TPS under this designation may file the Forms I-821 and I-765, and associated fees electronically by using E-Filing at the USCIS Internet site, http://www.uscis.gov. In order to properly re-register using E-Filing, aliens must begin the E-Filing process by completing Form I-821 online. After the Form I-821 is completed, the system will then link the alien to Form I-765.

Aliens re-registering for TPS after September 1, 2006, and/or whose application falls into Category 2 explained below may not E-File and must send their application materials to the USCIS Chicago Lockbox at the address listed below.

Category 2: Aliens who are filing applications for re-registration that require the submission of supporting documentation or are filing for the first time as a late initial registrant must use the address listed below and these types of applications may not be E-Filed. Applications for re-registration require the submission of supporting documentation under the following circumstances:

(A) If one or more of the questions listed in Part 4, Question 2 of Form I-821 apply to the alien, then the submission of an explanation, on a separate sheet(s) of paper, and/or additional documentation must be provided.

(B) If the alien was granted TPS by an Immigration Judge or the Board of Immigration Appeals, then the alien must include evidence of the grant of TPS (such as an order from the Executive Office for Immigration Review (EOIR)) with his or her application package.

Aliens who are filing a re-registration application that requires the submission of additional documentation or are filing for the first time as a late initial registrant must file at the P.O. Box listed below: U.S. Citizenship and Immigration Services, P.O. Box 8670, Chicago, IL 60680-8670. Or, for non-United States Postal Service (USPS) deliveries: U.S. Citizenship and Immigration Services, Attn: TPS—El Salvador—[EOIR/Additional Documents] or [Late Initial Registrant], 427 S. LaSalle—3rd Floor, Chicago, IL 60605.

Note: Please make sure to use either EOIR/Additional Documents or Late Initial Registrant on the “Attn:” line, after El Salvador, above.

Are certain aliens ineligible for TPS?

Yes. There are certain criminal and terrorism-related inadmissibility grounds that render an alien ineligible for TPS. 8 U.S.C. 1254a(c)(2)(A)(iii). Further, aliens who have been convicted of any felony or two or more misdemeanors committed in the United States are ineligible for TPS under section 244(c)(2)(B)(i) of the Act, 8 U.S.C. 1254a(c)(2)(B)(i), as are aliens described in the bars to asylum in section 208(b)(2)(A) of the Act, 8 U.S.C. 1158(b)(2)(A), 8 U.S.C. 1254a(c)(2)(B)(ii). Aliens should also note that an individual granted TPS will have his/her TPS withdrawn if the alien is not in fact eligible for TPS, if an alien fails to timely re-register for TPS without good cause, or if the alien fails to maintain continuous physical presence in the United States. 8 U.S.C. 1254a(c)(3)(A)-(C).

Who is eligible to receive an automatic extension of his or her EAD from September 9, 2006 to March 9, 2007?

To receive an automatic extension of his or her EAD, an individual must be a national of El Salvador (or an alien having no nationality who last habitually resided in El Salvador) who has applied for and received an EAD under the TPS designation of El Salvador and who has not had TPS withdrawn or denied. This automatic extension is limited to EADs issued on Form I-766, Employment Authorization Document, bearing an expiration date of September 9, 2006. The EAD must also be a Form I-766 bearing the notation “A-12” or “C-19” on the face of the card under “Category”.

If I am currently registered for TPS under the designation of El Salvador and am re-registering for TPS, how do I receive an extension of my EAD after the 6 months granted by the automatic extension?

As a TPS re-registrant you will receive a notice in the mail with instructions to appear at an ASC for biometrics collection. When you report to the ASC, you must bring your receipt notice for your re-registration application, ASC appointment notice, and current EAD. When you appear at an ASC for biometrics collection, USCIS will either affix a sticker to your current EAD extending the validity of the card through the end of September 2007 or advise you that your case requires further resolution. If your case requires further resolution, USCIS will contact you in writing to explain what additional information, if any, is necessary to resolve your case. If those issues are resolved and your re-registration application is approved, you will receive a new EAD in the mail with an expiration date of September 30, 2007.

Because the extension stickers include only the month and year, rather than a specific date, all EADs extended by sticker or issued anew pursuant to this extension of the TPS designation for El Salvador will be valid through September 30, 2007.

Will I receive a new EAD in the mail if I am given an extension sticker at the ASC?

No. Because the sticker affixed to your card at the ASC will extend the validity of your current EAD through September 30, 2007, there will be no need for you to obtain additional employment authorization documentation during the remainder of this extension of the designation of El Salvador for TPS.

If I am not eligible to receive a sticker extending my EAD, can I receive an interim EAD at my local USCIS Office?

No. USCIS will not be issuing interim EADs to TPS applicants or re-registrants at local Offices.

How may employers determine whether an EAD has been automatically extended for 6 months through March 9, 2007, and is therefore acceptable for completion of the Form I-9?

For purposes of verifying identity and employment eligibility or re-verifying employment eligibility on the Form I-9 until March 9, 2007, employers of Salvadoran TPS beneficiaries whose EADs have been automatically extended by this Notice must accept the EAD if presented. An EAD (Form I-766) that has been automatically extended for 6 months by this Notice to March 9, 2007, will actually contain an expiration date of September 9, 2006, and must be a Form I-766 bearing the notation “A-12” or “C-19” on the face of the card under “Category.” The automatic extension is valid for 6 months. New EADs or extension stickers showing the March 9, 2007 expiration date of the 6-month auto-extension will not be issued. In the alternative to the aforementioned options, any legally acceptable documentation or combination of documents listed in List A, List B, or List C of the Form I-9 may be presented as proof of identity and employment eligibility; it is the choice of the employee.

Employers should not request proof of Salvadoran citizenship. Employers presented with an EAD that has been extended pursuant to this Federal Register Notice, if it appears to be genuine and appears to relate to the employee, should accept the EAD as a valid “List A” document and should not ask for additional Form I-9 documentation. This action by the Secretary of Homeland Security through this Federal Register Notice does not affect the right of an employee to present any legally acceptable document as proof of identity and eligibility for employment.

Employers are reminded that the laws prohibiting unfair immigration-related employment practices remain in full force. For questions, employers may call the USCIS Office of Business Liaison Employer Hotline at 1-800-357-2099 to speak to a USCIS representative. Also, employers may call the U.S. Department of Justice Office of Special Counsel for Immigration Related Unfair Employment Practices (OSC) Employer Hotline at 1-800-255-8155 or 1-800-362-2735 (TDD). Employees or applicants may call the OSC Employee Hotline at 1-800-255-7688 or 1-800-237-2515 (TDD) for information regarding the automatic extension. Additional information is available on the OSC Web site at http://www.usdoj.gov/crt/osc/index.html.

How may employers determine an employee's eligibility for employment once the automatic extension has expired, between March 9, 2007, and the end of the work authorization on September 30, 2007?

Salvadorans with TPS status will possess either an EAD with an expiration date of September 30, 2007, or an EAD with an expiration date of September 9, 2006 and a sticker affixed to it extending the validity of the EAD through September 2007. In either case, the EAD will be a Form I-766 bearing the notation “A-12” or “C-19” on the face of the card under “Category.” Either of these EADs must be accepted for the purpose of verifying identity and/or employment authorization. Employers are reminded that the laws prohibiting unfair immigration-related employment practices remain in full force, as described above.

What documents may a qualified individual show to his or her employer as proof of employment authorization and identity when completing Form I-9, Employment Eligibility Verification?

During the first 6 months of this extension of the TPS designation for El Salvador, employees may submit the following to their employer for completion of the Form I-9 at the time of hire or re-verification. Qualified individuals who have received a 6-month extension of their EADs by virtue of this Federal Register Notice may present a TPS-based EAD to their employer, as described in above as proof of identity and employment authorization until March 9, 2007 (see section “How may employers determine an employee's eligibility for employment once the automatic extension has expired, between, March 9, 2007, and the end of the TPS extension on September 9, 2007?”). To minimize confusion over this extension at the time of hire or re-verification, qualified individuals may also present a copy of this Federal Register Notice regarding the automatic extension of employment authorization documentation to March 9, 2007.

Qualified individuals will either receive a sticker affixed to his or her current EAD, which extends the validity period of their EAD through the end of September 2007 or a new EAD valid through September 30, 2007. Either an EAD with the extension sticker or a newly issued EAD may be presented as evidence of employment authorization.

In the alternative to the aforementioned options, any legally acceptable document or combination of documents listed in List A, List B, or List C of the Form I-9 may be presented as proof of identity and employment eligibility; it is the choice of the employee.

Does TPS lead to lawful permanent residence?

No. TPS is a temporary benefit that does not lead to lawful permanent residence or by itself confer any other immigration status. 8 U.S.C. 1254a(e), (f)(1), (h). When a country's designation for TPS is terminated, TPS beneficiaries will maintain the same immigration status they held prior to TPS (unless that status has since expired or been terminated), or any other status they may have acquired while registered for TPS. Accordingly, if an alien held no lawful immigration status prior to being granted TPS and did not obtain any other status while registered for TPS, he or she will revert to unlawful status upon the termination of the TPS designation. Once the Secretary determines that a TPS designation should be terminated, aliens who had TPS under that designation are expected to plan for their departure from the United States and may wish to apply for immigration benefits for which they may be eligible.

May I apply for another immigration benefit while registered for TPS?

Yes. Registration for TPS does not prevent you from applying for another non-immigrant status, from filing for adjustment of status based on an immigrant petition, or from applying for any other immigration benefit or protection. 8 U.S.C. 1254a(a)(5). For the purposes of change of status and adjustment of status, an alien is considered as being in, and maintaining, lawful status as a nonimmigrant during the period in which the alien is granted TPS. 8 U.S.C. 1254a(f)(4).

How does an application for TPS affect my application for asylum or other immigration benefits?

An application for TPS does not affect an application for asylum or any other immigration benefit. Denial of an application for asylum or any other immigration benefit does not affect an applicant's TPS eligibility, although the grounds for denying one form of relief may also be grounds for denying TPS. For example, a person who has been convicted of a particularly serious crime is not eligible for asylum or TPS. 8 U.S.C. 1158(b)(2)(A)(ii); 8 U.S.C. 1254a(c)(2)(B)(ii).

Does this extension allow nationals of El Salvador (or aliens having no nationality who last habitually resided in El Salvador) who entered the United States after February 13, 2001, to file for TPS?

No. This is a Notice of an extension of TPS, not a Notice of re-designation of TPS for El Salvador. An extension of TPS does not change the required dates of continuous residence or continuous physical presence in the United States. This extension does not expand TPS availability to those beyond the current TPS eligibility requirements of El Salvador. To be eligible for benefits under this extension, nationals of El Salvador (or aliens having no nationality who last habitually resided in El Salvador) must have continuously resided in the United States since February 13, 2001, and been continuously physically present in the United States since March 9, 2001, the date of the most recent designation of TPS for El Salvador.

What is late initial registration?

Some persons may be eligible for late initial registration under 8 U.S.C. 1254a(c)(1)(A)(iv) and 8 CFR 244.2(f)(2) and (g). In order to be eligible for late initial registration an applicant must:

(1) Be a national of El Salvador (or alien who has no nationality and who last habitually resided in El Salvador);

(2) Have continuously resided in the United States since February 13, 2001;

(3) Have been continuously physically present in the United States since March 9, 2001; and

(4) Be both admissible as an immigrant, except as provided under section 244(c)(2)(A) of the Act, and not ineligible under section 244(c)(2)(B) of the Act.

Additionally, the applicant must be able to demonstrate that during the initial registration period (from March 9, 2001 to September 9, 2002), he or she:

(1) Was a nonimmigrant or had been granted voluntary departure status or any relief from removal;

(2) Had an application for change of status, adjustment of status, asylum, voluntary departure, or any relief from removal or change of status pending or subject to further review or appeal;

(3) Was a parolee or had a pending request for reparole; or

(4) Is the spouse or child of an alien currently eligible to be a TPS registrant.

An applicant for late initial registration must file an application for late registration no later than 60 days after the expiration or termination of the conditions described above. 8 CFR 244.2(g). All late initial registration applications for TPS, pursuant to the TPS designation of El Salvador, should be submitted to the aforementioned Lockbox address in Chicago, Illinois listed under Category 2.

What happens when this extension of TPS expires on September 9, 2007?

At least 60 days before this extension of TPS designation of El Salvador expires on September 9, 2007, the Secretary of Homeland Security, after consultation with appropriate agencies of the Government, will review conditions in El Salvador and determine whether the conditions for TPS designation continue to be met at that time, or whether the TPS designation should be terminated. 8 U.S.C. 1254a(b)(3). Notice of that determination, including the basis for the determination, will be published in the Federal Register.

Notice of extension of designation of TPS for El Salvador.

By the authority vested in DHS under sections 244(b)(1)(B), (b)(3)(A), and (b)(3)(C) of the Act, DHS has determined, after consultation with the appropriate Government agencies, that the conditions that prompted designation of El Salvador for TPS continue to be met. Accordingly, DHS orders as follows:

(1) The designation of El Salvador under section 244(b)(1)(B) of the Act is extended for an additional 12-month period from September 9, 2006, to September 9, 2007. 8 U.S.C. 1254a(b)(3)(C).

(2) There are approximately 225,000 nationals of El Salvador (or aliens having no nationality who last habitually resided in El Salvador) who have been granted TPS and who may be eligible for re-registration.

(3) To maintain TPS, a national of El Salvador (or an alien having no nationality who last habitually resided in El Salvador) who was granted TPS during the initial designation period and the subsequent extensions of this designation, or who was granted TPS during late initial registration, must re-register for TPS during the 60-day re-registration period from July 3, 2006, to September 1, 2006.

(4) To re-register, aliens must follow the aforementioned filing procedures set forth in this Notice.

(5) At least 60 days before this extension ends on September 9, 2007, the Secretary of Homeland Security, after consultation with appropriate agencies of the Government, will review the designation of El Salvador for TPS and determine whether the conditions for designation continue to be met. 8 U.S.C. 1254a(b)(3)(A). Notice of that determination, including the basis for the determination, will be published in the Federal Register. Id.

(6) Information concerning the extension of designation of El Salvador for TPS will be available at local USCIS offices upon publication of this Notice and on the USCIS Web site at http://www.uscis.gov.

Dated: May 17, 2006.
Michael Chertoff,
Secretary.

[FR Doc. 06-5443 Filed 6-13-06; 9:21 am]

BILLING CODE 4410-10-P